DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Awareness Study.

OMB Approval Number: None.

Form Number(s): None.

Type of Request: Regular submission.

Burden Hours: 1,192.

Number of Respondents: 3,096.

Average Hours Per Response: Focus groups, 2 hours; web-based surveys, 20 minutes.

Needs and Uses: Through the recently signed America COMPETES Act (“America Creating Opportunities to Meaningfully Promote Excellence in Technology, Education, and Science Act”), NOAA is charged with developing and promoting education and outreach activities at all levels for the purpose of heightening the public's current understanding of issues related to atmospheric science, the Earth's environment, and protecting life and property.

NOAA proposes to collect information to assess the general public's understanding and awareness of NOAA programs and services, especially as it relates to the collection and dissemination of scientific, operational, and climate data. The immediate collection of information would allow NOAA to implement a tailored approach to programmatic priorities for outreach and communications as effectively as possible. This would improve service for NOAA users and provide the public with warnings and forecasts that save lives and property and better disseminate products/services to aid in emergency preparedness.

To conduct this evaluation, NOAA has contracted with Harmonics International to conduct 3,000 online surveys and 96 two-hour interviews in a three phase research project among the following target audiences: The American public, key NOAA stakeholders, and other organizations with similar missions. These statistically valid research methodologies will provide NOAA with a complete and accurate assessment of current awareness, perceptions, emotions, and attitudes pertaining to NOAA, its programs, services, and operational data dissemination methods.

Affected Public: Individuals or households.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: December 18, 2007.
Gwellnar Banks,
Management Analyst, Office of the Chief Information Officer.

[FR Doc. E7-24884 Filed 12-21-07; 8:45 am]

BILLING CODE 3510-22-P